DEPARTMENT OF COMMERCE

International Trade Administration

[C-533-825]

Polyethylene Terephthalate Film, Sheet and Strip From India: Extension of Time Limit for Final Results of Countervailing Duty New Shipper Review

AGENCY: Import Administration, International Trade Administration, Department of Commerce.

DATES: Effective Date: March 9, 2011.

FOR FURTHER INFORMATION CONTACT: Elfi Blum or Toni Page, AD/CVD Operations, Office 6, Import Administration, International Trade Administration, U.S. Department of Commerce, 14th Street and Constitution Avenue, NW., Washington, DC 20230; telephone: (202) 482-0197 or (202) 482-1398, respectively.

Background

On December 21, 2010, the Department of Commerce (the Department) issued the preliminary results of the new shipper review under the countervailing duty order on polyethylene terephthalate film, sheet and strip from India for SRF Limited (SRF), covering the period January 1, 2009, through December 31, 2009. See Polyethylene Terephthalate Film, Sheet, and Strip From India: Preliminary Results of Countervailing Duty New Shipper Review, 75 FR 81574 (December 28, 2010) (Preliminary Results). The final results of review are currently due March 21, 2011.

Statutory Time Limits

Section 751(a)(2)(B)(iv) of the Tariff Act of 1930, as amended (the Act), and 19 CFR 351.214(i)(1), provide that the Department will issue the preliminary results of a new shipper review within 180 days after the day on which the review was initiated, and the final results of review within 90 days after the date on which the preliminary results were issued. However, if the Department concludes that a new shipper review is extraordinarily complicated, the Department may extend the 180-day period to 300 days, and the 90-day period to 150 days. See section 751(a)(2)(B)(iv) of the Act; 19 CFR 351.214(i)(2).

Extension of Time Limit for Final Results

The Department determines that this new shipper review is extraordinarily complicated because of questions that arose after the Preliminary Results concerning the bona fides of the new shipper's sale. Due to this issue, the Department had to issue another supplemental questionnaire to SRF, provide SRF with time to respond, and now must analyze SRF's response. Therefore, in accordance with section 751(a)(2)(B)(iv) of the Act and 19 CFR 351.214(i)(2), the Department is extending the time limit for the final results from 90 days to 150 days. Thus, the final results will now be due no later than May 20, 2011.

We are issuing and publishing this notice in accordance with sections 751(a)(2)(B)(iv) and 777(i)(1) of the Act.

Dated: March 3, 2011.
Christian Marsh,
Deputy Assistant Secretary for Antidumping and Countervailing Duty Operations.

[FR Doc. 2011-5383 Filed 3-8-11; 8:45 am]

BILLING CODE 3510-DS-P